MILITARY COMPENSATION AND RETIREMENT MODERNIZATION COMMISSION

Cancellation of a Meeting of the Military Compensation and Retirement Modernization Commission

AGENCY: Military Compensation and Retirement Modernization Commission.

ACTION: Notice of cancellation of public meetings and town hall meeting.

SUMMARY: This notice cancels the hearings and town hall that were to be held on Tuesday, February 25, 2014.

DATES: The public hearings and town hall originally scheduled for Tuesday, February 25, 2014, are cancelled.

ADDRESSES: The hearings and town hall were to be held Tuesday, February 25, 2014 at the Embassy Suites Fayetteville Fort Bragg, 4760 Lake Valley Drive, Fayetteville, North Carolina 28303.

FOR FURTHER INFORMATION CONTACT: Christopher Nuneviller, Associate Director, Military Compensation and Retirement Modernization Commission, P.O. Box 13170, Arlington VA 22209, telephone 703-692-2080, fax 703-697-8330, email christopher.nuneviller@mcrmc.gov.

SUPPLEMENTARY INFORMATION: A notice of public hearings and town hall meeting that appeared in the Federal Register on February 18, 2014 (79 FR 9285) announced that the Military Compensation and Retirement Modernization Commission (Commission) was to hold public hearings and a town hall meeting on Tuesday, February 25, 2014, to seek the views of service members, retirees, their beneficiaries and other interested parties regarding pay, retirement, health benefits and quality of life programs of the Uniformed Services. The Commission was to also hear from senior commanders of local military commands and their senior enlisted advisors, unit commanders and their family support groups, local medical and education community representatives, and other quality of life organizations.

The public hearings and town hall meeting will be rescheduled for a later date.

Christopher Nuneviller,
Associate Director, Administration and Operations.

[FR Doc. 2014-04126 Filed 2-24-14; 8:45 am]

BILLING CODE P